NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates & Times: September 12, 2005, 1-5 p.m.; September 13, 2005, 8 a.m.-8 p.m.; September 14, 2005, 8 a.m.-3:30 p.m.

Place: Synchrotron Radiation Center, 3731 Schneider Drive, Stoughton, WI 53589.

Type of Meeting: Partially closed.

Contact Person: Dr. Guebre X. Tessema, Program Director, National Facilities Programs, Division of Materials Research, room 1080, National Science Foundation, 4201 Wilson Boulevard, Arlington, VA 22230, telephone (703) 292-4935.

Purpose of Meeting: To provide advice and recommendations concerning a renewal proposal submitted to NSF for financial support for the Synchrotron Radiation Center at Wisconsin.

Agenda

Monday, September 12 (at PSL Conference Room)

1 p.m.-2 p.m. Closed—Executive Session

2 p.m.-6 p.m. Open—Tour of SRC, with User Presentations Welcome; Introduction; Discussion

Tuesday, September 13

8:30 a.m.-12:10 p.m. Open—Overview of Programs

12:10 p.m.-1 p.m. Closed—Executive Session

1 p.m.-5 p.m. Open—Review; User Research; Safety; Education and Outreach; Beamlines and Instrumentation; Plans for the Future; Budget

5 p.m.-6:30 p.m. Closed—Executive Session

Wednesday, September 14

8:30 a.m.-1:30 p.m. Closed—Meeting with Institutional Representatives; Review and Prepare Site Visit Report

Reason for Closing: The work being reviewed may include information of a proprietary or confidential nature, including technical information; financial data, such as salaries and personal information concerning individuals associated with the proposals. These matters are exempt under 5 U.S.C. 552b(c), (4) and (6) of the Government in the Sunshine Act.

Dated: August 23, 2005.
Susanne Bolton,
Committee Management Officer.

[FR Doc. 05-17039 Filed 8-25-05; 8:45 am]

BILLING CODE 7555-01-M